DEPARTMENT OF HOMELAND SECURITY

Bureau of Citizenship and Immigration Services

Agency Information Collection Activities: Proposed Collection; Comment Request

ACTION: 30-Day notice of information collection under review; Application for Asylum and for Withholding of Removal; Form I-589.

The Department of Homeland Security (DHS) has submitted the following information collection to the Office of Management and Budget (OMB) for review and clearance in accordance with the Paperwork Reduction Act of 1995.

The former Immigration and Naturalization Service (Service) published a Federal Register notice on February 25, 2003 at 68 FR 8784 to solicit public comments for a 60-day period regarding the proposed Form I-589, Application for Asylum and for Withholding of Removal. At the close of the public comment period on April 28, 2003, the DHS had not received any comments.

This notice allows an additional 30 days for public comments. Comments are encouraged and will be accepted until September 29, 2003. This process is conducted in accordance with 5 CFR 1320.10.

Written comments and/or suggestions regarding the items contained in this notice, especially regarding the estimated public burden and associated response time, should be directed to the Office of Management and Budget, Office of Information and Regulatory Affairs, Department of Homeland Security Desk Officer, Room 10235, Washington, DC 20530.

Written comments and suggestions from the public and affected agencies concerning the proposed collection of information should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Extension of currently approved collection.

(2) Title of the Form/Collection: Application for Asylum and for Withholding of Removal.

(3) Agency form number, if any, and the applicable component of the Department of Homeland Security sponsoring the collection: Form I-589, Office of International Affairs, Asylum Division, Bureau of Citizenship and Immigration Services.

(4) Affected public who will be asked or required to respond, as well as a brief abstract: Primary: Individuals or Households. The information collected on this form will be used to determine whether an alien applying for asylum and/or withholding of removal in the United States is classifiable as a refugee, or eligible for protection under the Convention Against Torture, and is eligible to remain in the United States.

(5) An estimate of the total number of respondents and the amount of time estimated for an average respondent to respond: 78,000 responses at 12 hours per response.

(6) An estimate of the total public burden (in hours) associated with the collection: 936,000 annual burden hours.

If you have additional comments, suggestions, or need a copy of the proposed information collection instrument with instructions, or additional information, please contact Richard S. Sloan (202) 514-3291, Director, Regulations and Forms Services Division, Bureau of Citizenship and Immigration Services (BCIS), U.S. Department of Homeland Security, Room 4034, 425 I Street, NW., Washington, DC 20536. Additionally, comments and/or suggestions regarding the item(s) contained in this notice, especially regarding the estimated public burden and associated response time may also be directed to Mr. Richard A. Sloan.

If additional information is required contact: Ms. Terry O'Malley, Clearance Officer, U.S. Department of Homeland Security, 7th and D Streets, NW., 4th Floor, Washington, DC (202) 358-3571.

Dated: August 26, 2003.
Richard A. Sloan,
Department Clearance Officer, U.S. Department of Homeland Security, Bureau of Immigration and Customs Enforcement.

[FR Doc. 03-22129 Filed 8-28-03; 8:45 am]

BILLING CODE 4410-10-M